DEPARTMENT OF LABOR

Employment and Training Administration

[TA-W-56,969]

ECSO Integrated Manufacturing, a Division of ESCO Corporation, Tempe, AZ; Notice of Termination of Investigation

Pursuant to section 221 of the Trade Act of 1974, as amended, an investigation was initiated on April 14, 2005 in response to a petition filed by a company official on behalf of workers at ESCO Integrated Manufacturing, a division of ESCO Corporation, Tempe, Arizona.

The petitioner has requested that the petition be withdrawn. Consequently, the investigation has been terminated.

Signed at Washington, DC this 25th day of May 2005.
Richard Church,
Certifying Officer, Division of Trade Adjustment Assistance.

[FR Doc. E5-2948 Filed 6-8-05; 8:45 am]

BILLING CODE 4510-30-P